DEPARTMENT OF COMMERCE

National Oceanic and Atmospheric Administration

RIN 0648-XE192

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet Monday, October 5, 2015, through Tuesday, October 13, 2015.

DATES: The meetings will be held Monday, October 5, 2015 through Tuesday, October 13, 2015. See SUPPLEMENTARY INFORMATION for specific dates.

ADDRESSES: The meetings will be held at the Anchorage Hilton Hotel, 500 W. 3rd Ave., Anchorage, AK 99501. See SUPPLEMENTARY INFORMATION for specific locations.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council will begin its plenary session at 8 a.m. in the Aleutian Room on Wednesday, October 7, continuing through Tuesday, October 13, 2015. The Scientific Statistical Committee (SSC) will begin at 8 a.m. in the King Salmon/Iliamna Room on Monday, October 5 and continue through Wednesday, October 7, 2015. The Council's Advisory Panel (AP) will begin at 8 a.m. in the Dillingham/Katmai Room on Tuesday, October 6, and continue through Saturday, October 10, 2015. The Enforcement Committee will meet on Tuesday, October 6, 2015 (room and time to be determined). The Legislative Committee will meet on Tuesday, October 6, 2015, from 2 p.m. to 5 p.m. (room to be determined).

Agenda

Monday, October 5, 2015 Through Tuesday, October 13, 2015

Council Plenary Session: The agenda for the Council's plenary session will include the following issues. The Council may take appropriate action on any of the issues identified.

(1) Executive Director's Report (including Halibut Management Framework Outline, and Halibut Deck Sorting)

(2) NMFS Management Report (including update on non-fishing habitat issues, litigation updates)

(3) ADF&G Report (including BOF proposals)

(4) USCG Report

(5) USFWS Report

(6) Protected Species Report

(7) BSAI Crab SAFE/Specifications for 6 stocks

(8) Proposed Groundfish Harvest Specifications

(9) Pribilof Canyon Corals: Receive Report/Next Steps

(10) AI Pacific cod Allocation: Final Action

(11) EM Workgroup recommendation for 2016 Pre-implementation

(12) Observer Program 2016 Annual Deployment Plan: Review

(13) Observer Coverage on BSAI Trawl CVs: Initial Review

(14) GOA Trawl Bycatch Management: Review Paper

(15) 100% Observer Coverage for GOA Trawl: Discussion paper

(16) GOA Salmon PSC Reapportionment: Preliminary Review

(17) WAI Golden King Crab Partial Offloads: Final Action

The Agenda is subject to change, and the latest version will be posted at http://www.npfmc.org/.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: September 15, 2015.
Jeffrey N. Lonergan,
Acting Deputy Director, Office of Sustainable Fisheries, National Marine Fisheries Service.

[FR Doc. 2015-23459 Filed 9-17-15; 8:45 am]

BILLING CODE 3510-22-P